DEPARTMENT OF THE INTERIOR

Bureau of Land Management

[LM_UT_FRN_MO4500178873]

Notice of Public Meeting, San Rafael Swell Recreation Area Advisory Council, Utah

AGENCY: Bureau of Land Management, Interior.

ACTION: Notice of public meeting.

SUMMARY: In accordance with the Federal Land Policy and Management Act, the Federal Advisory Committee Act, and the Federal Lands Recreation Enhancement Act, the Bureau of Land Management's (BLM's) San Rafael Swell Recreation Area Advisory Council (Council) will meet as indicated below.

DATES: The Council will participate in a field tour on August 13, 2024, from 8:30 a.m. to 4:00 p.m. Mountain Time (MT), and a public meeting with a virtual public comment participation option on August 14, 2024, at the Orangeville Community Center from 8:30 a.m. to 4:30 p.m. MT. Public comments will be accepted at 2:45 p.m. The meeting and field tour will be open to the public.

ADDRESSES: The August 13 field tour will commence and conclude, and the August 14 meeting will be held, at the Orangeville Community Center, 80 North Main Street, Orangeville, Utah 84537. Individuals that prefer to participate virtually in the public comment period must register in advance. Registration information will be posted two weeks in advance of the meeting at https://www.blm.gov/get-involved/resource-advisory-council/near-you/utah/San-Rafael-Swell-RAC.

Written comments may be sent prior to each meeting either by mail to the BLM Green River District, Attn: Lisa Everett, 170 South 500 West, Vernal, UT 84078, or by email at utprmail@blm.gov, with the subject line “San Rafael Swell Recreation Area Advisory Council Meeting.”

FOR FURTHER INFORMATION CONTACT: BLM Green River Deputy District Manager Lisa Everett, by telephone at (435) 781-4400, or email at utprmail@blm.gov. Persons in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The John D. Dingell, Jr. Conservation, Management, and Recreation Act (Pub. L. 116-9) established the San Rafael Swell Recreation Area Advisory Council to advise the Secretary of the Interior, through the BLM, in planning and managing the San Rafael Swell Recreation Area. The seven-member Council represents a wide range of interests including local government, recreational users, grazing allotment permittees, conservation organizations, people with expertise in historical uses of the recreation area, and Tribal Nations.

Individuals who need special assistance, such as sign language interpretation and other reasonable accommodations, should contact the person listed in the FOR FURTHER INFORMATION CONTACT section of this notice at least seven days in advance. Agenda items for the August 14, 2024, meeting include an overview of the Dingell Act, camping management, supplemental rules, and other topics as appropriate. The August 13, 2024, field tour will visit various points within the San Rafael Swell Recreation Area and will include discussions of BLM management of public lands, focusing on options for camping management. Members of the public are welcome on the field tour but must provide their own transportation and meals. Individuals who plan to attend must RSVP to the BLM Green River District Office at least one week in advance of the field tour to the contact listed in the FOR FURTHER INFORMATION CONTACT section of this notice.

Detailed meeting minutes will be maintained in the BLM Green River District Office and will be made available for public inspection and reproduction during regular business hours within 90 days following each meeting. Minutes will also be posted to the Council's web page at https://www.blm.gov/get-involved/resource-advisory-council/near-you/utah/San-Rafael-Swell-RAC. The amount of time for individual oral comments may be limited depending on the total number of commenters. Written comments may also be sent to the BLM Green River Deputy District Manager at the address listed in the ADDRESSES section of this notice. All comments received will be provided to the Council.

Public Disclosure of Comments: Before including your address, phone number, email address, or other personal identifying information in your comment, you should be aware that your entire comment, including your personal identifying information, may be made publicly available at any time. While you can ask in your comment to withhold your personal identifying information from public review, we cannot guarantee that we will be able to do so.

Authority: 5 U.S.C. ch. 10.

Gregory Sheehan,
State Director.

[FR Doc. 2024-10796 Filed 5-16-24; 8:45 am]

BILLING CODE 4331-25-P